DEPARTMENT OF COMMERCE

National Oceanic and Atmospheric Administration

RIN 0648-XU48

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its American Samoa and Hawaii Archipelagic Fishery Ecosystem Plan (FEP) Plan Teams to discuss potential management measures for non-commercial fishing in the Rose Atoll Marine National Monument and Pacific Remote Islands Marine National Monument, respectively.

DATES: The American Samoa FEP Plan Team meeting will be held on Monday, March 8, 2010, from 2-4 p.m. HST. The Hawaii FEP Plan Team meeting will be held March 9, 2010, from 1-3 p.m. HST.

ADDRESSES: The American Samoa meeting will be held at the American Samoa Department of Marine and Wildlife Resources Building, Pago Pago, AS 96799: telephone: (684) 633-4456.

The Hawaii meeting will be held at the Council Office Conference Room, Western Pacific Fishery Management Council, 1164 Bishop St., Suite 1400, Honolulu, HI, 96813; telephone: (808) 522-8220.

FOR FURTHER INFORMATION CONTACT: Kitty M. Simonds, Executive Director; telephone: (808) 522-8220.

SUPPLEMENTARY INFORMATION: The agenda for the American Samoa FEP Plan Team meeting will focus primarily on one issue: non-commercial fishing in the Rose Atoll Marine National Monument as prescribed in Presidential Proclamation 8337 (January 6, 2009). The agenda for the Hawaii FEP Plan Team meeting will also only consider primarily one issue: non-commercial fishing in the Pacific Remote Islands Marine National Monument as prescribed in Presidential Proclamation 8336 (January 6, 2009). Interested parties who are unable to attend in person will be able to participate via teleconference using the Council's teleconferencing facility (1-888-482-3560, pass code 5228220). The plan teams will meet as late as necessary to complete scheduled business.

Although non-emergency issues not contained in this agenda may come before the plan teams for discussion, those issues may not be the subject of formal action during these meetings. Plan Team action will be limited to issues regarding non-commercial fishing in the Rose Atoll Marine National Monument and the Pacific Remote Islands Marine National Monument, respectively.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 16, 2010.
William D. Chappell,
Acting Director, Office of Sustainable Fisheries, National Marine Fisheries Service.

[FR Doc. 2010-3210 Filed 2-18-10; 8:45 am]

BILLING CODE 3510-22-S